NATIONAL ARCHIVES AND RECORDS ADMINISTRATION

Office of Government Information Services

[NARA-2025-029]

Office of Government Information Services Annual Meeting

AGENCY: Office of Government Information Services (OGIS), National Archives and Records Administration (NARA).

ACTION: Notice of annual open meeting.

SUMMARY: We are announcing OGIS's annual meeting, open to the public in accordance with the Freedom of Information Act (FOIA). The purpose of the meeting is to discuss OGIS's reviews and reports, and allow interested people to appear and present oral or written statements.

DATES: The meeting will be held on July 23, 2025, from 11:00 a.m. to 12:00 noon ET. You must register to attend. (See registration information below.)

ADDRESSES: This meeting will be a virtual meeting. We will send access instructions for the meeting to those who register according to the instructions below.

FOR FURTHER INFORMATION CONTACT: Martha Murphy by email at ogisopenmeeting@nara.gov or by telephone at 202.741.5770.

SUPPLEMENTARY INFORMATION: This meeting is open to the public in accordance with FOIA provisions at 5 U.S.C. 552(h)(6). OGIS's 2025 Report for Fiscal Year 2024, posted at https://www.archives.gov/ogis/about-ogis/annual-reports/ogis-2025-annual-report-for-fy-2024, summarizes OGIS's work in accordance with FOIA provisions at 5 U.S.C. 552(h)(4)(A). You may submit written statements by using OGIS's Public Comments Form, available at https://www.archives.gov/ogis/public-comments. If you are interested in presenting oral statements at the meeting you must register in advance via the Zoom for Government link below. Each individual will be limited to three minutes each. We will not address individual OGIS cases or specific FOIA requests.

Procedures: This virtual meeting is open to the public. If you are making oral comments at the meeting you must register via Zoom for Government: https://www.zoomgov.com/webinar/register/WN_sasiSKiWQdiS15kUVaeNrw. To request accommodations (e.g., a transcript), email ogis@nara.gov or call 202.741.5770. Members of the media who wish to register, those who are unable to register online, and those who require special accommodations, should contact Martha Murphy (contact information listed above).

Alina M. Semo,
Office of Government Information Services Director.

[FR Doc. 2025-12532 Filed 7-3-25; 8:45 am]

BILLING CODE 7515-01-P